DEPARTMENT OF HEALTH AND HUMAN SERVICES

National Institutes of Health

Charter Amendments, Establishments, Reestablishments, Renewals, and Terminations; Novel and Exceptional Technology and Research Advisory Committee

Pursuant to Title 41 of the U.S. Code of Federal Regulations, Section 102-3.65(a), the Director, National Institutes of Health (NIH) announces the re-establishment of the Novel and Exceptional Technology and Research Advisory Committee as authorized by 42 U.S.C. 282(b)(16), section 402(b)(16) of the Public Health Service Act, as amended.

The Director, NIH, has determined that the current activities of the Novel and Exceptional Technology and Research Advisory Committee are in the public interest in connection with the performance of duties imposed on NIH by law, and that these duties can best be performed through the advice and counsel of the committee.

This committee provides advice and recommendations on matters related to the conduct and oversight of research involving emerging technologies in biomedical science (also referred to as emerging biotechnologies).

Pursuant to section 1009 of the Federal Advisory Committee Act, as amended, notice is hereby given of a meeting of the Novel and Exceptional Technology and Research Advisory Committee.

The meeting will be held as a virtual meeting and will be open to the public as indicated below. Individuals who plan to view the virtual meeting and need special assistance or other reasonable accommodations to view the meeting should notify the Contact Person listed below in advance of the meeting. The meeting will be accessible through the following link (https://osp.od.nih.gov/policies/novel-and-exceptional-technology-and-research-advisory-committee-nextrac#tab4/).

Name of Committee: Novel and Exceptional Technology and Research Advisory Committee.

Date: September 29, 2025.

Time: 1:00 p.m.-3:00 p.m. ET.

Agenda: The Novel and Exceptional Technology and Research Advisory Committee (NExTRAC) meeting will include presentation, discussion, and possible finalization of the Draft Report of the Working Group on Engaging the Public as Partners in Clinical Research.

Place: National Institutes of Health, 6705 Rockledge Drive, Suite 630, Bethesda, MD 20892 (https://osp.od.nih.gov/policies/novel-and-exceptional-technology-and-research-advisory-committee-nextrac#tab4/).

Contact Person: Jessica Tucker, Ph.D., Office of Science Policy, National Institutes of Health, 6705 Rockledge Drive, Suite 630, Bethesda, MD 20892, 301-496-9838, SciencePolicy@od.nih.gov.

Any interested person may file written comments by forwarding the statement to the Contact Person listed on this notice at least two business days prior to the meeting date. The statement should include the name, address, telephone number and when applicable, the business or professional affiliation of the interested person. Other than name and contact information, please do not include any personally identifiable information or any information that you do not wish to make public. Proprietary, classified, confidential, or sensitive information should not be included in your comments. Please note that any comments NIH receives may be posted unredacted to the Office of Science Policy website.

Information is also available on the NIH Office of Science Policy website: https://osp.od.nih.gov/policies/novel-and-exceptional-technology-and-research-advisory-committee-nextrac#tab4, where an agenda, link to the webcast meeting, and any additional information for the meeting will be posted when available. Materials for this meeting will be posted prior to the meeting. Please check this website for updates.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 4, 2025.
Jayantha Bhattacharya,
Director, National Institutes of Health.

[FR Doc. 2025-17380 Filed 9-9-25; 8:45 am]

BILLING CODE 4140-01-P